DEPARTMENT OF HEALTH AND HUMAN SERVICES

Centers for Disease Control and Prevention

[30Day-16-15ADW]

Agency Forms Undergoing Paperwork Reduction Act Review

The Centers for Disease Control and Prevention (CDC) has submitted the following information collection request to the Office of Management and Budget (OMB) for review and approval in accordance with the Paperwork Reduction Act of 1995. The notice for the proposed information collection is published to obtain comments from the public and affected agencies.

Written comments and suggestions from the public and affected agencies concerning the proposed collection of information are encouraged. Your comments should address any of the following: (a) Evaluate whether the proposed collection of information is necessary for the proper performance of the functions of the agency, including whether the information will have practical utility; (b) Evaluate the accuracy of the agencies estimate of the burden of the proposed collection of information, including the validity of the methodology and assumptions used; (c) Enhance the quality, utility, and clarity of the information to be collected; (d) Minimize the burden of the collection of information on those who are to respond, including through the use of appropriate automated, electronic, mechanical, or other technological collection techniques or other forms of information technology, e.g., permitting electronic submission of responses; and (e) Assess information collection costs.

To request additional information on the proposed project or to obtain a copy of the information collection plan and instruments, call (404) 639-7570 or send an email to omb@cdc.gov. Written comments and/or suggestions regarding the items contained in this notice should be directed to the Attention: CDC Desk Officer, Office of Management and Budget, Washington, DC 20503 or by fax to (202) 395-5806. Written comments should be received within 30 days of this notice.

Proposed Project

Employer Perspective of an Insurer-Sponsored Wellness Grant—New—National Institute for Occupational Safety and Health (NIOSH), Centers for Disease Control and Prevention (CDC).

Background and Brief Description

The mission of the National Institute for Occupational Safety and Health (NIOSH) is to promote safety and health at work for all people through research and prevention. Under Public Law 91-596, sections 20 and 22 (Section 20-22, Occupational Safety and Health Act of 1970), NIOSH has the responsibility to conduct research to advance the health and safety of workers. In this capacity, NIOSH proposes to conduct a study among employers in Ohio insured by the Ohio Bureau of Workers' Compensation (OHBWC) to: (1) Assess the effectiveness and cost-benefit of an intervention that funds workplace wellness programs and (2) understand the impact of integrating of wellness with traditional occupational safety and health (OSH) programs.

Work-related injuries and illnesses are common among US workers and result in pain, disability, and substantial cost to workers and employers. A recent, comprehensive analysis of the economic burden of work-related injuries and illnesses estimated that in 2007, alone, medical and indirect costs for work-related injuries and illnesses were $250 billion. According to the Bureau of Labor Statistics, there were 4,609 occupational fatalities in 2011 and approximately 2 million work-related injuries and illnesses that involved some lost work in 2010.

Workers' health is affected not only by workplace safety and health hazards but also workers' own health behaviors. Reflecting this, two different, yet, complementary approaches exist in the workplace: OSH programs and wellness programs. Both types of programs aim to improve worker health and reduce costs to employers, workers' compensation (WC) insurers, and society. Since 2004, NIOSH has advocated an approach that coordinates wellness programs with OSH programs because emerging evidence suggests that integrating these two fields may have a synergistic effect on worker safety and health.

NIOSH has established an intramural program for protecting and promoting Total Worker Health™. The NIOSH Total Worker Health™ Cross-Sector Program promotes the integration of health and safety protection with health and wellness promotion through research, interventions, partnerships, and capacity building to meet the needs of the 21st century workforce. The proposed project addresses three priority goals of the NIOSH Total Worker Health™ Program: (1) Investigate the costs/benefits associated with comprehensive, coordinated work-based health protection/health promotion interventions, (2) improve the understanding of how the work environment influences the effectiveness of health programs and identify opportunities for workplace interventions to prevent, control, recognize and manage common chronic conditions, and (3) conduct scientific research that more holistically investigates organizational and worker health and safety outcomes associated with emerging issues and addresses gaps in knowledge in the health protection/health promotion field.

There is a need for research to demonstrate a `business case' for both wellness programs and integrated OSH-wellness programs and identify OSH organizational and management policies, programs and practices that effectively reduce work-related injuries, illnesses, disabilities and WC costs. To date, small employers have been largely ignored in these areas and many studies have focused on the manufacturing industry. Real-world examples of effective interventions that apply to employers of all sizes and industries will ultimately improve workers' health and safety.

For the current study, NIOSH and OHBWC are collaborating on a project to determine the effectiveness and economic return of the Workplace Wellness Grant Program (WWGP) and to understand the impact of integrating of wellness with traditional OSH programs. In early 2012 OHBWC took steps to integrate wellness and OSH programs by launching the WWGP, in which an estimated 400 (currently 321) employers and 13,000 employees will be provided a total of $4 million in funds over four years to implement wellness programs.

The majority of the study aims will be accomplished through secondary analysis of pre- and post-intervention data being collected by OHBWC and shared with NIOSH. For the overall study, data for participating employers will include aggregate health risk appraisal data; aggregate biometric data; turnover data; health care utilization costs; information about occupational safety and health, wellness, and integrated occupational safety and health-wellness program elements; OHBWC WWGP expense records; yearly WC claims and cost data; data that details employer participation in other OHBWC programs; industry codes, and employer size. For the annual case study verification interviews, a sample of no more than 50 employers will be selected among grantees for 1-2 brief phone calls to confirm responses on an annual survey administered by OHBWC. Therefore, up to 100 key informants may be contacted if we do not speak to the same person each time, as reflected in the Estimated Annualized Burden table below.

In addition, NIOSH will supplement the cost data extracted from existing sources with information collected through in-depth, semi-structured interviews with no more than 25, randomly selected, participating employers. Data gathered from these employer interviews are critical to compute ratios of total savings to total costs for the grant-supported wellness programs from the perspective of the participating employers.

NIOSH will ask key informant from the employer a series of questions that will be used to estimate direct and indirect costs that were not directly funded by the WWGP during and after the grant funding period. This will be accomplished by collecting as detailed information as possible about the employer's wellness program and occupational and safety program costs. Topics will include questions about: The timeline and confirmation of grant funding, non-grant funds used for wellness program costs after receiving the first grant, and other questions about their wellness program.

The results of these interview-supplemented case studies will be used to estimate the proportion by which total employer costs exceed the cost of the primary wellness program vendor, as well as the proportion of these costs attributable to establishing the program in the first year versus operating the program in subsequent years. These estimates will be applied to generate total employer costs for all of the WWGP recipients, with sensitivity analysis based on the observed variability of employer costs in the case studies.

If the WWGP is effective at improving worker health, reducing WC claims and demonstrating a positive economic return, then other employers and insurance carriers may develop similar programs and drive the optimization of integrated OSH-wellness approaches. NIOSH expects to complete data collection in 2017. It is estimated that a maximum of 100 individuals will be interviewed (up to 50 for the semi-structured economic interviews and up to 100 for the annual case study verification interviews). The hour-burden estimates include the time for reviewing instructions, searching existing data sources, gathering and maintaining the data needed, and participating in the interview. There are no costs to interviewees other than their time. The total estimated annual burden hours are 150.

Estimated Annualized Burden Hours
Type of respondents | Form name | Number of respondents | Number of responses per respondent | Average burden per response (in hrs.)
Wellness Program Coordinators | Employers interview on cost of wellness and occupational safety and health program | 25 | 1 | 2
Occupational Safety and Health Specialists | Employers interview on cost of wellness and occupational safety and health program | 25 | 1 | 2
The person in charge of the employer's wellness program | Annual case study verification interview | 100 | 1 | 30/60

Leroy A. Richardson,
Chief, Information Collection Review Office, Office of Scientific Integrity, Office of the Associate Director for Science, Office of the Director, Centers for Disease Control and Prevention.

[FR Doc. 2016-00383 Filed 1-11-16; 8:45 am]

BILLING CODE 4163-18-P